DEPARTMENT OF AGRICULTURE

Agricultural Marketing Service

7 CFR Part 1218

[Document Number AMS-FV-09-0021; FV-09-704]

Blueberry Promotion, Research, and Information Order; Withdrawal of a Proposed Rule

AGENCY: Agricultural Marketing Service, USDA.

ACTION: Withdrawal of proposed rule.

SUMMARY: This action withdraws a proposed rule published in the Federal Register on July 27, 2009 (74 FR 36955), to amend the Blueberry Promotion, Research, and Information Order (Order) by increasing the assessment rate on producers and importers who produce or import more than 2,000 pounds of highbush blueberries annually from $12 to $24 per ton. The Order is administered by the U.S. Highbush Blueberry Council (Council). Assessments are used by the Council to fund a nationally coordinated program of research, development, advertising, and promotion of highbush blueberries in the marketplace. The Council recommended increasing the assessment rate to expand its promotional and research activities to bridge the potential gap between demand and future supply. Several comments were received in opposition to the proposed increase in assessment rate. Accordingly, based upon comments received, the proposed rule is being withdrawn.

DATES: The proposed rule published on July 27, 2009 (74 FR 36955) is withdrawn as of February 23, 2010.

FOR FURTHER INFORMATION CONTACT: Sonia Jimenez, Chief, Research and Promotion Branch, Fruit and Vegetable Programs, AMS, U.S. Department of Agriculture, Stop 0244, 1400 Independence Avenue, SW., Room 0632-S, Washington, DC 20250-0244; telephone: (888) 720-9917; facsimile: (202) 205-2800; or electronic mail: Sonia.Jimenez@ams.usda.gov.

SUPPLEMENTARY INFORMATION: This rule is issued under the Blueberry Promotion, Research, and Information Order [7 CFR part 1218]. The Order is authorized under the Commodity Promotion, Research, and Information Act of 1996 [7 U.S.C. 7411-7425].

This action withdraws a proposed rule published in the Federal Register on July 27, 2009 (74 FR 36955), to amend the Order by increasing the assessment rate on producers and importers who produce or import more than 2,000 pounds of highbush blueberries annually from $12 to $24 per ton. The Council recommended this action to expand its promotional activities and add an advertising component to bridge the potential gap between highbush blueberry demand and future supply. Furthermore, it was the Council's intent to use the additional revenue to strengthen existing consumer, food service, and food manufacturer publicity; to expand its health research; and to develop an educational campaign on good management practices and food safety within the United States as well as internationally.

During the comment period, July 27 through September 25, 2009, the Department of Agriculture received 45 timely comments. These comments may be viewed on the Internet at http://www.regulations.gov. Nineteen comments were opposed to increasing the assessment rate at this time and one comment supported a smaller increase of $18 per ton.

In summary, the opposing commenters expressed concern with doubling the assessment rate in light of current, poor economic conditions. Several commenters also argued that there is no need to increase the assessment rate because revenue should increase with the anticipated increase in production. Others raised concerns about growers being able to cover their production costs if the assessment rate doubled. Given the comments received, AMS agrees that the proposed rule increasing the assessment rate from $12 to $24 per ton should not be finalized. Therefore, the proposed rule is being withdrawn so as to allow further consideration by the Council. The Council should reconsider whether an increase in the assessment rate is appropriate, and if so, at what rate it should recommend any increase.

The proposed rule to amend the Order by increasing the assessment rate on producers and importers who produce or import more than 2,000 pounds of highbush blueberries annually from $12 to $24 per ton published in the Federal Register on July 27, 2009 (74 FR 36955), is hereby withdrawn.

List of Subjects in 7 CFR Part 1218

Administrative practice and procedure, Advertising, Consumer information, Marketing agreements, Blueberry promotion, Reporting and recordkeeping requirements.

Authority: 7 U.S.C. 7411-7425; 7 U.S.C. 7401.

Dated: February 17, 2010.
Rayne Pegg,
Administrator, Agricultural Marketing Service.

[FR Doc. 2010-3478 Filed 2-22-10; 8:45 am]

BILLING CODE 3410-02-P